DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

Wirelessly Powered MRI Signal Amplification System and Method

Description of Technology: The invention is in the field of MRI, and more specifically relates to device and method that may provide great improvements in the area of interventional MRI. The technology describes an MRI detection coil that has been integrated with a parametric amplifier to provide local signal detection fully integrated with amplification. This amplification is done in a way that is inherently wireless, thus enabling efficient signal transmission. The integrated MRI detector/amplifier can be used in a number of applications. First, it can replace conventional MRI amplification typically done with transistor, thus eliminating the need for wires. Second, it can replace what is traditionally used as part of implanted or catheter coils for interventional procedures with MRI. The advantage is that the signal can be amplified, and wireless transmission is part of the amplification scheme. Therefore signal can be transmitted from the subject in a way that provides detection at higher sensitivity than conventional coils without internal amplification.

Applications: MRI diagnostics and in particular in interventional MRI applications:

• The device can be used as part of a catheter MRI coil for MRI guided surgery.

• It can also be used as implantable NMR coils for localized spectroscopy with better sensitivity.

• The device can potentially be used as a free floating MRI detector/amplifier and swallowed for internal MRI detection as has been done quite successful with optical imaging devices for imaging the human intestine.

• There may be use in MRI coil arrays where interaction between wires in large element arrays is a problem.

Advantages:

• The detector/amplifier integrated system eliminates the need for transistors and is wireless, therefore heat is reduced and sensitivity of detection is increased.

• The system is compatible with interventional MRI devices.

Development Status:

• Proof of principle has been demonstrated on a prototype device.

• Testing a second generation device right now with smaller dimension that could be implanted into transplanted organs and used in mm sized catheters for interventional devices or the digestive tract.

• Plans to develop methods to decouple elements for use in MRI detector arrays.

Inventors: Chunqi Qian et al. (NINDS)

Relevant Publications:

1. Qian C, Murphy-Borsch J, Dodd S, Koretsky A. Local detection and parametric amplification of MRI signals. Abstract/Presentation, 52nd Experimental Nuclear Magnetic Resonance Conference, April 10-15, 2011, Pacific Grove, CA.

2. Qian C, Murphy-Borsch J, Dodd S, Koretsky A. Integrated detection and wireless transmission of MRI signal using parametric amplifier. Abstract/Presentation, 19th Annual Meeting & Exhibition of the International Society of Magnetic Resonance in Medicine, May 7-13, 2011, Montreal, Quebec, Canada.

3. Qian C, Murphy-Borsch J, Dodd S, Koretsky A. Sensitivity enhancement of remotely coupled NMR detectors using wirelessly powered parametric amplification. Magn Reson Med. 2011, under review.

Patent Status: U.S. Provisional Application No. 61/648,911 filed 29 Mar 2011 (HHS Reference No. E-113-2011/0-US-01).

Licensing Status: Available for licensing and commercial development.

Licensing Contacts:

• Uri Reichman, PhD, MBA; 301-435-4616; UR7a@nih.gov.

• John Stansberry, PhD; 301-435-5236; js852e@nih.gov.

An Antibody Specific for the Ubl4A Protein

Description of Technology: The antibody developed against the Ubl4A protein is available for licensing. Ubl4A is involved in the proper targeting of tail-anchored proteins to membranes by acting as a chaperone to prevent inappropriate interactions or aggregation. Alterations in membrane insertion or protein degradation may be related to Ubl4a in certain disease states making Ubl4a an attractive biomarker for the study of disease development or as a tool for the development of assays for disease detection.

Applications: The Ubl4a-specific antibody detects Ubl4a in total cell lysates and tissues and can be used to study Ubl4a interactions with other proteins.

Inventor: Ramanugan Hegde (NICHD).

Related Publication: Mariappan M, Li X, Stefanovic S, Sharma A, Mateja A, Keenan RJ, Hegde RS. A ribosome-associating factor chaperones tail-anchored membrane proteins. Nature. 2010 Aug 26;466(7310):1120-1124. [PMID: 20676083].

Patent Status: HHS Reference No. E-058-2011/0—Research Tool. Patent protection is not being pursued for this technology.

Licensing Status: This technology is available as a research tool under a Biological Materials License.

Licensing Contact: Steve Standley, PhD; 301-435-4074; sstand@od.nih.gov.

Collaborative Research Opportunity: The NICHD is seeking statements of capability or interest from parties interested in collaborative research to further develop, evaluate, or commercialize Ubl4A assay detection for disease diagnostics. Please contact Charlotte McGuinness at 301-435-3130 or mcguinnc@mail.nih.gov for more information.

The Human Nuclear Co-Repressor Gene: Applications for Cancer Diagnostics/Therapeutics and Gene Expression Research

Description of Technology: The human nuclear receptor co-repressor (huN-CoR) forms multimolecular complexes that alters chromatin structure, resulting in disrupted gene expression. The huN-CoR complex is central to normal processes such as erythropoiesis and thymocyte development, but is also linked to multiple cancers including colorectal carcinomas, endometrial cancers and leukemia, particularly acute myeloid leukemia. Thus, huN-CoR is a potentially-valuable tool for cancer diagnosis, as well as a target for the development of huN-CoR-based cancer therapeutics. HuN-CoR is also an attractive research tool for the study of gene regulation, epigenetic modification and gene silencing.

The technology claims nucleic acid sequences comprising the huN-CoR gene and fragments thereof, as well as a gene chip array incorporating such fragments.

Applications:

• Target for novel anti-cancer therapies.

• Use as a tool for prognosis and diagnosis of HuN-Cor-related diseases.

• Use as a target for antibody production and development of biological assays to diagnose human disease related to HuN-CoR.

• Target for rational drug design of novel agents to reverse transcriptional repression

• Study of molecular repression of targeted genes using HuN-Cor fusion proteins.

Inventors: Johnson M. Liu and Jianxiang Wang (NHLBI).

Related Publications:

1. Wang J, Wang M, Liu JM. Domains involved in ETO and human N-CoR interaction and ETO transcription repression. Leuk Res. 2004 Apr;28(4):409-414. [PMID: 15109542].

2. Wang J, Hoshino T, Redner RL, Kajigaya S, Liu JM. ETO, fusion partner in t(8;21) acute myeloid leukemia, represses transcription by interaction with the human N-CoR/mSin3/HDAC1 complex. Proc Natl Acad Sci U.S.A. 1998 Sep 1;95(18):10860-10865. [PMID: 9724795]

Patent Status: HHS Reference No. E-088-1999/0—U.S. Patent No. 6,949,624 issued 27 Sep 2005.

Licensing Status: Available for licensing.

Licensing Contact: Tara Kirby PhD; 301-435-4426; tk200h@nih.gov.

Dated: July 21, 2011.
Richard U. Rodriguez,
Director, Division of Technology Development and Transfer, Office of Technology Transfer, National Institutes of Health.

[FR Doc. 2011-18966 Filed 7-26-11; 8:45 am]

BILLING CODE 4140-01-P